DEPARTMENT OF JUSTICE

Notice of Lodging of Consent Judgment Pursuant to Resource Conservation and Recovery Act

Notice is hereby given that on March 16, 2006, a proposed Consent Judgment in United States v. Citygas Gasoline Corporation, et al., Civil Action No. CV-03-6374, was lodged with the United States District Court for the Eastern District of New York.

The proposed Consent Judgment will resolve the United States' claims under Section 9006 of the Resource Conservation and Recovery Act, as amended, 42 U.S.C. 6991e, on behalf of the U.S. Environmental Protection Agency against defendant Leggett Land Ltd. (“Leggett”) in connection with alleged violations of the regulations governing underground storage tanks (“USTs”) set forth at 40 CFR part 280 at a gas station owned by Leggett at 1081 Leggett Avenue, Bronx, New York. The Consent Judgment requires Leggett Land Ltd. to pay a civil penalty of $100,000, to comply with the UST regulations within specified deadlines, and to perform a ground-penetrating radar study to locate out-of-service waste oil USTs at its facility, and, if found, to permanently close them.

The Department of Justice will receive for a period of thirty (30) days from the date of this publication comments relating to the proposed Consent Judgment. Comments should be addressed to the Assistant Attorney General of the Environment and Natural Resources Division, Department of Justice, Washington, DC 20530, and should refer to United States v. Citygas Gasoline Corp., et al., DJ No. 90-7-1-07464.

The proposed Consent Judgment may be examined at the Office of the United States Attorney, Eastern District of New York, One Pierrepont Plaza, 14th Fl., Brooklyn, New York, 11201, and at the United States Environmental Protection Agency, Region II, 290 Broadway, New York, New York 10007-1866. During the public comment period, the proposed Consent Judgment may also be examined on the following Department of Justice Web site, http://www.usdoj.gov/enrd/open.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Judgment, please so note and enclose a check in the amount of $3.00 (25 cents per page reproduction cost) payable to the U.S. Treasury.

Ronald G. Gluck,
Assistant Section Chief, Environmental Enforcement Section, Environment and Natural Resources Division.

[FR Doc. 06-3025 Filed 3-28-06; 8:45 am]

BILLING CODE 4410-15-M